DEPARTMENT OF ENERGY

Federal Energy Regulatory Commission

[Docket No. RP00-305-001]

Mississippi River Transmission Corporation; Notice of Compliance Filing

July 21, 2000.

Take notice that on July 17, 2000, Mississippi River Transmission Corporation (MRT) tendered for filing as part of its FERC Gas Tariff, Third Revised Volume No. 1, First Substitute Original Sheet No. 226A and First Substitute Original Sheet No. 226B to become effective July 1, 2000.

MRT states that the purpose of this filing is to comply with the Commission's June 30, 2000 order in which the Commission accepted MRT's negotiated rates proposal, subject to MRT filing revised tariff sheets addressing certain issues. MRT states that the revised tariff sheets address all outstanding issues.

MRT states that a copy of this filing is being mailed to each of MRT's customers, all parties to the proceeding and to the state commissions of Arkansas, Illinois and Missouri.

Any person desiring to be heard or to protest said filing should file a motion to intervene or a protest with the Federal Energy Regulatory Commission, 888 First Street, N.E., Washington, D.C. 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-18878 Filed 7-25-00; 8:45 am]

BILLING CODE 6717-01-M